ENVIRONMENTAL PROTECTION AGENCY

[FRL-7610-9]

Proposed Agreement and Covenant Not To Sue Pursuant to the Comprehensive Environmental Response, Compensation, and Liability Act of 1980, as Amended by the Superfund Amendments and Reauthorization Act of 1986; In Re: Bargaineer's Center Superfund Site, Located in Brockton, MA

AGENCY: Environmental Protection Agency.

ACTION: Notice of proposed agreement; request for public comment.

SUMMARY: In accordance with the Comprehensive Environmental Response, Compensation, and Liability Act, as amended (“CERCLA”), 42 U.S.C. 9601, et. seq., notice is hereby given of a proposed Agreement and Covenant Not to Sue between the United States, on behalf of the U.S. Environmental Protection Agency (“EPA”) and W.B. Mason Co., Inc. and JLTS VI L.L.C. (“Purchaser”). The Purchaser plans to acquire 10.72 acres located at 70 East Battles Street in Brockton, Massachusetts, the location of a removal action in which the EPA removed semi-volatile organic compounds (“SVOCs”), asbestos, and polychlorinated biphenyls (“PCBs”). The Purchaser intends to perform additional cleanup activities, redevelop the Site, and operate a distribution center for its office supply business. Under the Proposed Agreement, the United States grants a Covenant Not to Sue to the Purchaser with respect to existing contamination at the Site in exchange for the Purchaser's agreement to pay EPA $25,000. In addition, the Purchaser agrees to provide an irrevocable right of access at all reasonable times to representatives of EPA.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted on or before February 17, 2004.

ADDRESSES: Comments should be addressed to the Regional Hearing Clerk, U.S. Environmental Protection Agency, Region I, One Congress Street, Suite 1100, Mailcode RAA, Boston, Massachusetts 02203, and should refer to: In re: Bargaineer's Center Superfund Site, U.S. EPA CERCLA Docket No. 01-2003-0076.

FOR FURTHER INFORMATION CONTACT: A copy of the proposed Agreement and Covenant Not to Sue: W.B. Mason Co., Inc. and JLTS VI L.L.C. can be obtained from Andrea Treece, Enforcement Counsel, U.S. Environmental Protection Agency, Region I, One Congress Street, Mailcode SES, Boston, Massachusetts 02214, (617) 918-1540.

Dated: January 7, 2004.
Robert V. Varney,
Regional Administrator, Region I.

[FR Doc. 04-1048 Filed 1-15-04; 8:45 am]

BILLING CODE 6560-50-P